DEPARTMENT OF TRANSPORTATION

Federal Aviation Administration

14 CFR Part 39

[Docket No. FAA-2024-0232; Project Identifier MCAI-2023-00353-R; Amendment 39-22758; AD 2024-10-12]

RIN 2120-AA64

Airworthiness Directives; Bell Textron Canada Limited Helicopters

AGENCY: Federal Aviation Administration (FAA), DOT.

ACTION: Final rule.

SUMMARY: The FAA is adopting a new airworthiness directive (AD) for certain Bell Textron Canada Limited Model 407 helicopters. This AD was prompted by a report that a certain part-numbered fuel system standpipe assembly (standpipe) may have sharp edges at the interval weld joints due to a quality escape during the manufacturing process. This AD requires inspecting certain fuel system parts and, depending on the inspection results, taking corrective actions and performing a fuel quantity gauging system calibration. Depending on the results of the fuel quantity gauging system calibration, this AD requires performing additional corrective actions and repeating the fuel quantity gauging system calibration. The FAA is issuing this AD to address the unsafe condition on these products.

DATES: This AD is effective August 22, 2024.

The Director of the Federal Register approved the incorporation by reference of certain publications listed in this AD as of August 22, 2024.

ADDRESSES:

AD Docket: You may examine the AD docket at regulations.gov under Docket No. FAA-2024-0232; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Bell material, contact Bell Textron Canada Limited, 12,800 Rue de l'Avenir, Mirabel, Quebec J7J 1R4, Canada; phone 1-450-437-2862 or 1-800-363-8023; fax 1-450-433-0272; email productsupport@bellflight.com; or at bellflight.com/support/contact-support.

• You may view this material at the FAA, Office of the Regional Counsel, Southwest Region, 10101 Hillwood Pkwy., Room 6N 321, Fort Worth, TX 76177. For information on the availability of this material at the FAA, call (817) 222-5110. It is also available at regulations.gov under Docket No. FAA-2024-0232.

FOR FURTHER INFORMATION CONTACT: Michael Hughlett, Aviation Safety Engineer, FAA, 1600 Stewart Avenue, Suite 410, Westbury, NY 11590; phone: (817) 222-5889; email: michael.Hughlett@faa.gov.

SUPPLEMENTARY INFORMATION:

Background

The FAA issued a notice of proposed rulemaking (NPRM) to amend 14 CFR part 39 by adding an AD that would apply to Bell Textron Canada Limited Model 407 helicopters, serial numbers 54832 through 54931 inclusive, 54933 through 54939 inclusive, and 54942 through 54954 inclusive, with a certain part-numbered fuel system standpipe assembly installed. The NPRM published in the Federal Register on February 20, 2024 (89 FR 12792). The NPRM was prompted by Transport Canada AD CF-2023-11, dated February 23, 2023 (Transport Canada AD CF-2023-11), issued by Transport Canada, which is the aviation authority for Canada. Transport Canada AD CF-2023-11 states that, due to a quality escape, standpipe part number (P/N) 407-062-032-103 may have been delivered with sharp edges at the internal weld joints.

In the NPRM, the FAA proposed to require, with the standpipe removed, inspecting its interior for any sharp edges on each internal weld joint. If there are any sharp edges on any weld joint, the NPRM proposed to require deburring the edges, ensuring not to exceed a certain depth into the tube. The NPRM then proposed to require removing all sanding residue and applying a chemical film to any bare metal surfaces. The NPRM also proposed to require, with the harness assembly removed, inspecting the harness assembly connectors for any mechanical damage and corrosion to the electrical pins, and inspecting the insulation tubing and wires of the harness assembly for any crack and chafing. Depending on these results, the NPRM proposed to require replacing the harness assembly.

If the harness assembly was required to be replaced as a result of the proposed AD requirements, the NPRM proposed to require performing a fuel quantity gauging system calibration. Depending on the calibration results, the NPRM proposed to require replacing the harness assembly and repeating the fuel quantity gauging system calibration. The FAA is issuing this AD to address the unsafe condition on these products.

You may examine the Transport Canada AD in the AD docket at regulations.gov under Docket No. FAA-2024-0232.

Discussion of Final Airworthiness Directive

Comments

The FAA received no comments on the NPRM or on the determination of the costs.

Conclusion

These helicopters have been approved by Transport Canada and are approved for operation in the United States. Pursuant to the FAA's bilateral agreement with Canada, Transport Canada has notified the FAA about the unsafe condition described in its AD. Except for minor editorial changes, this AD is adopted as proposed in the NPRM. Accordingly, the FAA is issuing this AD to address the unsafe condition on these helicopters.

Related Service Information Under 1 CFR Part 51

The FAA reviewed Bell Alert Service Bulletin 407-21-124, dated February 1, 2022, which specifies procedures for a one-time visual inspection of the internal weld joints of standpipe P/N 407-062-032-103. If there are any sharp edges, this service information specifies rework procedures, which include deburring the sharp edges, removing all residue, and applying a chemical film. This service information also specifies procedures to remove and inspect the harness assembly connectors for any damage to the electrical pins and inspect the insulation tubing and wires for any cracks and chafing.

Additionally, this service information specifies if any damage is found, contacting product support engineering and submitting certain information. Finally, this service information specifies instructions for various fuel procedures and checks.

The FAA also reviewed Fuel Quantity Gauging System, DMC-407-A-95-65-10-01A-273A-A, dated June 2, 2022, of Chapter 95—Instruments, of Bell Model 407 Maintenance Manual, BHT-407-MM, Issue No. 014, dated December 12, 2023, which specifies procedures for a fuel quantity gauging system calibration procedure and inspecting the fuel quantity display information.

This material is reasonably available because the interested parties have access to it through their normal course of business or by the means identified in ADDRESSES.

Differences Between This AD and the Transport Canada AD

Transport Canada AD CF-2023-11 requires contacting Bell for disposition instructions if damage is found on the harness assembly, whereas this AD requires removing an affected harness assembly from service and replacing it with an airworthy harness assembly.

Costs of Compliance

The FAA estimates that this AD affects 51 helicopters of U.S. Registry. Labor rates are estimated at $85 per work-hour. Based on these numbers, the FAA estimates the following costs to comply with this AD.

Inspecting the interior of the standpipe will take approximately 1 work-hour for an estimated cost of $85 per helicopter and $4,335 for the U.S. fleet.

Inspecting the harness assembly connectors, insulation tubing, and wiring will take approximately 1 work-hour for an estimated cost of $85 per helicopter and $4,335 for the U.S. fleet.

If required, deburring, cleaning, and applying a chemical film to each affected weld joint will take approximately 0.5 work-hour for an estimated cost of $43 per weld joint.

If required, replacing an affected harness assembly will take approximately 1 work-hour and parts will cost approximately $1,071 for an estimated cost of $1,156 per harness replacement.

If required, performing a fuel quantity gauging system calibration will take approximately 10 work-hours for an estimated cost of $850 per procedure.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-10-12 Bell Helicopter Textron Canada Limited: Amendment 39-22758; Docket No. FAA-2024-0232; Project Identifier MCAI-2023-00353-R.

(a) Effective Date

This airworthiness directive (AD) is effective August 22, 2024.

(b) Affected ADs

None.

(c) Applicability

This AD applies to Bell Textron Canada Limited Model 407 helicopters, serial numbers 54832 through 54931 inclusive, 54933 through 54939 inclusive, and 54942 through 54954 inclusive, certificated in any category, with a fuel system standpipe assembly (standpipe) part number 407-062-032-103 installed.

(d) Subject

Joint Aircraft System Component (JASC) Code: 2897, Fuel system wiring.

(e) Unsafe Condition

This AD was prompted by a report that certain standpipes may have sharp edges at the interval weld joints due to a quality escape during the manufacturing process. The FAA is issuing this AD to detect sharp edges in the standpipe. The unsafe condition, if not addressed, could result in fuel quantity system wiring damage, loss of or erratic fuel quantity indication.

(f) Compliance

Comply with this AD within the compliance times specified, unless already done.

(g) Requirements

(1) Within 300 hours time-in-service (TIS) or 6 months after the effective date of this AD, whichever occurs first, accomplish the actions required by paragraphs (g)(1)(i) and (ii) of this AD.

(i) With the standpipe removed from the aft fuel cell, inspect the interior of the standpipe for any sharp edges on each internal weld joint, as shown in Figure 1 of Bell Alert Service Bulletin 407-21-124, dated February 1, 2022. If there is a sharp edge on any internal weld joint, before further flight, deburr the edges of each affected weld joint using an aluminum oxide abrasive cloth or paper, or equivalent, ensuring not to exceed 0.015 in (0.38 mm) depth into the tube material at a 45-degree angle to the weld joint. Then, using a clean cloth dampened with isopropyl alcohol or equivalent, remove all sanding residue from the weld joint and apply a chemical film material to any bare metal surfaces.

(ii) With the fuel quantity harness assembly (harness assembly) removed, inspect the harness assembly connectors for any mechanical damage and corrosion to the electrical pins and inspect the insulation tubing and wires for any cracks and chafing. For the purposes of this AD, mechanical damage is indicated by deterioration of the connections or pins.

(A) If there is any corrosion or mechanical damage, before further flight, remove the harness assembly from service and replace it with an airworthy harness assembly.

(B) If there is a crack or any chafing, before further flight, remove the harness assembly from service and replace it with an airworthy harness assembly.

(2) If the harness assembly was required to be replaced as a result of the inspection required by paragraph (g)(1)(ii) of this AD or by this paragraph, before further flight, with the standpipe and harness assembly installed, perform a fuel quantity gauging system calibration in accordance with paragraphs 4 through 18 of Fuel Quantity Gauging System, DMC-407-A-95-65-10-01A-273A-A, dated June 2, 2022, of Chapter 95—Instruments, of Bell Model 407 Maintenance Manual, BHT-407-MM, Issue No. 014, dated December 12, 2023. As a result of the fuel quantity gauging system calibration, if a fuel level does not indicate the correct reading or displays no reading, before further flight, remove the harness assembly from service and replace it with an airworthy harness assembly; and repeat the actions required by this paragraph for the newly installed harness assembly.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i) of this AD. Information may be emailed to: 9-AVS-AIR-730-AMOC@faa.gov.

(2) Before using any approved AMOC, notify your appropriate principal inspector, or lacking a principal inspector, the manager of the local flight standards district office/certificate holding district office. The following provisions also apply to this AD.

(i) Related Information

For more information about this AD, contact Michael Hughlett, Aviation Safety Engineer, FAA, 1600 Stewart Avenue, Suite 410, Westbury, NY 11590; phone: (817) 222-5889; email: michael.Hughlett@faa.gov.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Bell Alert Service Bulletin 407-21-124, dated February 1, 2022.

(ii) Fuel Quantity Gauging System, DMC-407-A-95-65-10-01A-273A-A, dated June 2, 2022, of Chapter 95—Instruments, of Bell Model 407 Maintenance Manual, BHT-407-MM, Issue No. 014, dated December 12, 2023.

(3) For Bell Helicopter Textron Canada Limited material, contact Grant Walker, 330 Sparks St., Ottawa, K1A 0N5, Canada; phone: (888) 663-3639; email: grant.walker@tc.gc.ca.

(4) You may view this material at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on July 10, 2024.
James D. Foltz,
Deputy Director, Compliance & Airworthiness Division, Aircraft Certification Service.

[FR Doc. 2024-15808 Filed 7-17-24; 8:45 am]

BILLING CODE 4910-13-P